DEPARTMENT OF THE INTERIOR

Bureau of Indian Affairs

Renewal of Agency Information Collection for Tribal Colleges and Universities Grant Application Form

AGENCY: Bureau of Indian Affairs, Interior.

ACTION: Notice of submission to OMB.

SUMMARY: In compliance with the Paperwork Reduction Act of 1995, the Bureau of Indian Affairs (BIA) is submitting to the Office of Management and Budget (OMB) a request for renewal for the collection of information for Tribal Colleges and Universities Application for Grants. The information collection is currently authorized by OMB Control Number 1076-0018, which expires September 30, 2012.

DATE: Interested persons are invited to submit comments on or before October 24, 2012.

ADDRESSES: You may submit comments on the information collections to the Desk Officer for the Department of the Interior at the Office of Management and Budget, by facsimile to (202) 395-5806 or you may send an email to: OIRA_DOCKET@omb.eop.gov. Please send a copy of your comments to Juanita Keesing, Program Analyst, U.S. Department of the Interior, Bureau of Indian Education, 1849 C Street NW., Washington, DC 20240; email: Juanita.Keesingt@bie.edu.

FOR FURTHER INFORMATION CONTACT: Juanita Keesing, Program Analyst, (202) 208-3559. You may review the information collection requests online at http://www.reginfo.gov. Follow the instructions to review Department of the Interior collections under review by OMB.

SUPPLEMENTARY INFORMATION:

I. Abstract

Each tribally-controlled college or university requesting financial assistance under the Tribally Controlled Colleges and Universities Assistance Act of 1978, as amended, 25 U.S.C. 1801 et seq. (Act) is required by 25 U.S.C. 1807(a) and 25 CFR 41.8 to provide information for the purpose of securing a grant.

II. Request for Comments

The BIA requests your comments on these collections concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents, such as through the use of automated collection techniques or other forms of information technology.

Please note that an agency may not conduct or sponsor, and an individual need not respond to, a collection of information unless it has a valid OMB Control Number.

It is our policy to make all comments available to the public for review at the location listed in the ADDRESSES section. Before including your address, phone number, email address or other personal identifying information in your comment, you should be aware that your entire comment—including you personal identifying information—may be made publicly available at any time. While you can ask us in your comment to withhold your personal identifying information from public review, we cannot guarantee that we will be able to do so.

III. Data

OMB Control Number: 1076-0018.

Title: Tribal Colleges and Universities Grant Application Form, 25 CFR 41.8.

Brief Description of Collection: Collection of the information is mandatory under the Tribally Controlled Colleges and Universities Assistance Act of 1978, as amended, 25 U.S.C. 1801 et seq., for the respondent to receive or maintain a benefit, i.e., an operating grant.

Type of Review: Extension without change of a currently approved collection.

Respondents: Tribal college and university administrators.

Number of Respondents: 26 per year, on average.

Total Number of Responses: 26 per year, on average.

Frequency of Response: Annually.

Estimated Time per Response: 1 hour.

Estimated Total Annual Hour Burden: 26 hours.

Dated: September 18, 2012.
Ellen Findley,
Acting Assistant Director for Information Resources.

[FR Doc. 2012-23503 Filed 9-21-12; 8:45 am]

BILLING CODE 4310-6W-P